DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Multispecies Days-at-Sea Leasing Program.

Form Number(s): None.

OMB Approval Number: 0648-0475.

Type of Request: Regular submission.

Burden Hours: 550.

Number of Respondents: 1,400.

Average Hours Per Response: Days-at-sea (DAS) leasing program application, 5 minutes; one-time application to downgrade DAS leasing baseline, 1 hour.

Needs and Uses: The submission renews an information request that allows Northeast multispecies fishermen to lease allocated days-at-sea. This request is a renewal for a program in the Northeast Multispecies Fishery Management Plan under Amendment 13 to the Fishery Management Plan.

Affected Public: Business or other for-profit organizations; individuals or households.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 4, 2006.
Gwellnar Banks,
Management Analyst, Office of the Chief Information Officer.

[FR Doc. E6-7072 Filed 5-9-06; 8:45 am]

BILLING CODE 3510-22-P